DEPARTMENT OF ENERGY

Federal Energy Regulatory Commission

[Project No. 15359-000]

Stone Ridge Hydro, LLC; Notice of Intent To File License Application, Filing of Pre-Application Document, and Approving the Use of the Traditional Licensing Process

a. Type of Application: Notice of Intent to File License Application.

b. Project No.: 15359-000.

c. Date filed: June 3, 2024.

d. Submitted by: Stone Ridge Hydro, LLC (Stone Ridge).

e. Name of Project: Herkimer Hydroelectric Project.

f. Location: On West Canada Creek, near the village of Herkimer, in Herkimer County, New York. The project does not occupy any Federal land.

g. Filed Pursuant to: 18 CFR 5.3 of the Commission's regulations.

h. Potential Applicant Contact: Peter Blanchfield, Chief Executive Officer, 16 Harrogate Road, New Hartford, NY 13413. Phone: (650) 644-6003. Email: peter_blanchfield@gmail.com.

i. FERC Contact: Jody Callihan, Phone: (202) 502-8278, Email: jody.callihan@ferc.gov.

j. Stone Ridge filed its request to use the Traditional Licensing Process on October 31, 2024, and provided public notice of its request on the same date. In a letter dated January 7, 2025, the Director of the Division of Hydropower Licensing approved Stone Ridge's request to use the Traditional Licensing Process.

k. With this notice, we are initiating informal consultation with the U.S. Fish and Wildlife Service and/or NOAA Fisheries under section 7 of the Endangered Species Act and the joint agency regulations thereunder at 50 CFR part 402; and NOAA Fisheries under section 305(b) of the Magnuson-Stevens Fishery Conservation and Management Act and implementing regulations at 50 CFR 600.920. We are also initiating consultation with the New York State Historic Preservation Officer, as required by section 106, National Historic Preservation Act, and the implementing regulations of the Advisory Council on Historic Preservation at 36 CFR 800.2.

l. With this notice, we are designating Stone Ridge as the Commission's non-Federal representative for carrying out informal consultation pursuant to section 7 of the Endangered Species Act and consultation pursuant to section 106 of the National Historic Preservation Act.

m. Stone Ridge filed a Pre-Application Document (PAD), including a proposed process plan and schedule, with the Commission, pursuant to 18 CFR 5.6 of the Commission's regulations.

n. A copy of the PAD may be viewed on the Commission's website (http://www.ferc.gov), using the “eLibrary” link. Enter the docket number, excluding the last three digits in the docket number field, to access the document. For assistance, contact FERC Online Support at FERCOnlineSupport@ferc.gov, (866) 208-3676 (toll free), or (202) 502-8659 (TTY).

o. The applicant states its unequivocal intent to submit an application for a new license for Project No. 15359. Pursuant to 18 CFR 16.8, 16.9, and 16.10 each application for a new license and any competing license applications must be filed with the Commission at least 24 months prior to the expiration of the existing license. All applications for license for this project must be filed by March 31, 2025.

p. Register online at https://www.ferc.gov/docs-filing/esubscription.asp to be notified via email of new filing and issuances related to this or other pending projects. For assistance, contact FERC Online Support.

q. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 7, 2025.
Debbie-Anne A. Reese,
Secretary.

[FR Doc. 2025-00576 Filed 1-13-25; 8:45 am]

BILLING CODE 6717-01-P